DEPARTMENT OF TRANSPORTATION

Office of the Secretary

[Docket No. DOT-OST-2012-0087]

Advisory Committee for Aviation Consumer Protection

AGENCY: Office of the Secretary (OST), Department of Transportation (DOT).

ACTION: Notice of fifth meeting of advisory committee.

SUMMARY: This notice announces the fifth meeting of the Advisory Committee for Aviation Consumer Protection.

DATES: The fifth meeting of the advisory committee is scheduled for October 8, 2013, from 9:00 a.m. to 4:00 p.m., Eastern Time.

ADDRESSES: The meeting will be held in the Elwood Pete Quesada Auditorium located on the third floor of the Federal Aviation Administration (FAA) headquarters at 800 Independence Avenue SW., Washington, DC. Attendance is open to the public up to the room's capacity of 125 attendees. However, since access to the FAA headquarters building is controlled for security purposes, any member of the general public who plans to attend this meeting must notify the Department contact identified below at least five (5) calendar days prior to the meeting.

FOR FURTHER INFORMATION CONTACT: To register to attend the meeting, please contact Max Slaiman, Research Analyst, Centra Technology, Inc., slaimanm@centratechnology.com; 703-894-6910. For other information please contact Kathleen Blank Riether, Senior Attorney, Office of Aviation Enforcement and Proceedings, kathleen.blankriether@dot.gov; U.S. Department of Transportation, 1200 New Jersey Ave. SE., Washington, DC 20590; 202-366-9342 (phone), 202-366-5944 (fax).

SUPPLEMENTARY INFORMATION:

On May 24, 2012, the Secretary, as mandated by Section 411 of the FAA Modernization and Reform Act of 2012 (Pub. L. 112-95, 126 Stat. 11 (2012)), established the Advisory Committee on Aviation Consumer Protection and announced those persons appointed as members. The committee's charter, drafted in accordance with the Federal Advisory Committee Act (FACA), as amended, 5 U.S.C. App. 2, sets forth policies for the operation of the advisory committee and is available on the Department's Web site at http://facasms.fido.gov/committee/charters.aspx?cid=2448&aid=47.

The fifth meeting of the committee is scheduled for Tuesday, October 8, 2013, from 9:00 a.m. to 4:00 p.m. Eastern Time in the Elwood Pete Quesada Auditorium located on the third floor of the FAA headquarters at 800 Independence Avenue SW., Washington, DC 20591. At the meeting the DOT's Office of Aviation Enforcement and Proceedings (Enforcement Office) will provide an update on the implementation status of the committee's initial set of recommendations to the Secretary submitted to Congress on March 22, 2013. Other issues to be discussed include making consumer rights information available to the public on airport posters, delays in the clearance of passengers arriving on international flights through the U.S. Customs and Border Protection facilities at U.S. airports, customized airfare pricing and potential consumer protection issues, and the committee's recommendations for calendar year 2013 to the Secretary of Transportation on additional needed consumer protection measures.

As announced in the notices of previous meetings of the committee, the meeting will be open to the public, and, time permitting, comments by members of the public are invited. Since access to the Federal Aviation Administration headquarters building is controlled for security purposes, we ask that any member of the general public who plans to attend the fifth meeting notify the Department contact noted above no later than five (5) calendar days prior to the meeting. Attendance will be necessarily limited by the size of the meeting room.

Members of the public may present written comments at any time. The docket number referenced above (OST-2012-0087, available at https://www.regulations.gov,) has been established for committee documents including any written comments that may be filed. At the discretion of the Chairperson and time permitting, after completion of the planned agenda, individual members of the public may provide oral comments. Any oral comments presented must be limited to the objectives of the committee and will be limited to five (5) minutes per person. Individual members of the public who wish to present oral comments must notify the Department contact noted above via email that they wish to attend and present oral comments at least five (5) calendar days prior to the meeting.

Persons with a disability who plan to attend the meeting and require special accommodations, such as an interpreter for the hearing impaired, should notify the Department contact noted above at least seven (7) calendar days prior to the meeting. Persons attending with a service animal should also advise us of that fact so that it can be taken into account in connection with space and possible allergy issues.

Notice of this meeting is being provided in accordance with the FACA and the General Services Administration regulations covering management of Federal advisory committees. (41 CFR Part 102-3.)

Issued in Washington, DC, on September 3, 2013.
Samuel Podberesky,
Assistant General Counsel for Aviation Enforcement & Proceedings, U.S. Department of Transportation.

[FR Doc. 2013-21896 Filed 9-9-13; 8:45 am]

BILLING CODE 4910-9X-P